DEPARTMENT OF STATE

[Public Notice No. 3469]

Shipping Coordinating Committee; Subcommittee on Standards of Training and Watchkeeping; Notice of Meeting Cancellation

On November 15, 2000, 65 FR 69118, the United States Department of State published notice #3467 to announce a meeting of the Shipping Coordinating Committee to be held on Thursday, December 14, 2000. The purpose of this meeting was to review the agenda items to be considered at the thirty-second session of the Subcommittee on Standards of Training and Watchkeeping (STW 32) of the International Maritime Organization (IMO).

This notice is to announce that the meeting is cancelled.

For further information, please contact Chief, Office of Operating and Environmental Standards, U.S. Coast Guard Headquarters, Commandant (G-MSO), room 1210, 2100 Second Street, SW, Washington, DC, 20593-0001 or by calling LCDR Luke Harden at: (202) 267-1838.

December 6, 2000.
Mira Piplani,
International Transportation and Commercial Officer.

[FR Doc. 00-31585 Filed 12-7-00; 2:26 pm]

BILLING CODE 4710-07-P